DEPARTMENT OF ENERGY

Federal Energy Regulatory Commission

Combined Notice of Filings #1

Take notice that the Commission received the following electric rate filings:

Docket Numbers: ER10-1836-005; ER10-2005-005; ER11-26-005; ER10-1849-004; ER10-1847-005; ER13-1992-002; ER13-1991-002; ER10-1846-004; ER10-1845-005; ER10-1844-005; ER10-1843-005; ER13-712-004; ER10-1841-005; ER12-569-005; ER10-1915-004; ER10-2551-004; ER10-1838-004; ER12-631-006; ER10-1995-004; ER10-2078-006; ER10-1994-004; ER10-1993-004; ER10-1992-005; ER11-4678-006; ER10-1971-014; ER10-1972-005; ER10-1973-004; ER10-1951-005; ER10-1974-012; ER10-1975-012; ER12-2444-005; ER10-1976-005; ER10-1983-005; ER10-1984-005; ER11-2365-005; ER10-1985-005; ER10-1986-004; ER12-676-005; ER11-2192-006; ER10-1989-005; ER10-1990-004; ER13-2474-001; ER10-1991-005; ER12-1660-005; ER10-1925-005; ER10-1920-006; ER10-1918-005; ER10-1907-005; ER10-1906-004; ER10-1905-005; ER11-2160-005; ER10-1903-004; ER10-1902-004; ER10-1899-004; ER11-2037-004; ER13-752-003; ER12-2227-004; ER10-1851-004; ER10-1852-005; ER10-1855-004; ER10-1856-005; ER10-1857-004; ER10-1887-004; ER10-1890-005; ER10-1897-005; ER10-1927-005; ER10-1928-006; ER11-2642-005; ER10-1930-004; ER10-1931-005; ER11-4677-006; ER10-1970-005; ER11-4462-007; ER14-21-002; ER12-895-004; ER12-1880-005; ER11-4428-006; ER10-2720-006; ER10-1968-004; ER10-1967-004; ER10-1966-005; ER12-2225-004; ER12-2226-004; ER10-1965-005; ER10-1964-005; ER10-1963-004; ER12-1228-004; ER10-1962-005; ER12-1228-005; ER10-1961-004; ER10-2006-006; ER11-3635-005; ER10-1952-004; ER13-2112-001; ER10-1950-005; ER10-1935-004; ER10-1932-004.

Applicants: Ashtabula Wind, LLC, Ashtabula Wind II, LLC, Ashtabula Wind III, LLC, Backbone Mountain Windpower LLC, Baldwin Wind, LLC, Bayswater Peaking Facility, LLC, Blackwell Wind, LLC, Butler Ridge Wind Energy Center, LLC, Cimarron Wind Energy, LLC, Crystal Lake Wind, LLC, Crystal Lake Wind II, LLC, Crystal Lake Wind III, LLC, Day County Wind, LLC, Desert Sunlight 250, LLC, Desert Sunlight 300, LLC, Diablo Winds, LLC, Elk City Wind, LLC, Elk City II Wind, LLC, Energy Storage Holdings, LLC, Ensign Wind, LLC, ESI Vansycle Partners, L.P., Florida Power & Light Company, FPL Energy Burleigh County Wind, LLC, FPL Energy Cabazon Wind, LLC, FPL Energy Cape, LLC, FPL Energy Cowboy Wind, LLC, FPL Energy Green Power Wind, LLC, FPL Energy Hancock County Wind, LLC, FPL Energy Illinois Wind, LLC, FPL Energy Marcus Hook, L.P., FPL Energy MH50 L.P., FPL Energy Montezuma Wind, LLC, FPL Energy Mower County, LLC, FPL Energy New Mexico Wind, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle, L.L.C., FPL Energy Wyman, LLC, FPL Energy Wyman IV, LLC, Garden Wind, LLC, Genesis Solar, LLC, Gray County Wind Energy, LLC, Hatch Solar Energy Center I, LLC, Hawkeye Power Partners, LLC, High Majestic Wind Energy Center, LLC, High Majestic Wind II, LLC, High Winds, LLC, Jamaica Bay Peaking Facility, LLC, Lake Benton Power Partners II, LLC, Langdon Wind, LLC, Limon Wind, LLC, Limon Wind II, LLC, Logan Wind Energy LLC, Meyersdale Windpower LLC, Mill Run Windpower, LLC, Minco Wind, LLC, Minco Wind II, LLC, Minco Wind III, LLC, Minco Wind Interconnection Services, LLC, Mountain View Solar, LLC, NEPM II, LLC, NextEra Energy Duane Arnold, LLC, NextEra Energy Montezuma II Wind, LLC, NextEra Energy Power Marketing, LLC, NextEra Energy Point Beach, LLC, NextEra Energy Seabrook, LLC, NextEra Energy Services Massachusetts, LLC, Northeast Energy Associates, A Limited Partnership, North Jersey Energy Associates, A Limited Partnership, North Sky River Energy, LLC, Northern Colorado Wind Energy, LLC, Osceola Windpower, LLC, Osceola Windpower II, LLC, Paradise Solar Urban Renewal, L.L.C., Peetz Table Wind Energy, LLC, Pennsylvania Windfarms, Inc., Perrin Ranch Wind, LLC, Red Mesa Wind, LLC, Sky River LLC, Somerset Windpower, LLC, Steele Flats Wind Projects, LLC, Story Wind, LLC, Tuscola Bay Wind, LLC, Vasco Winds, LLC, Waymart Wind Farm, L.P., Wessington Wind Energy Center, LLC, White Oak Energy LLC, Wilton Wind II, LLC, Windpower Partners 1993, LLC.

Description: NextEra Resources Entities Notification of Non-Material Change in Status One Day Out-of-Time.

Filed Date: 12/23/13.

Accession Number: 20131223-5280.

Comments Due: 5 p.m. ET 1/13/14.

Docket Numbers: ER10-3145-005; ER10-3147-005; ER13-442-002; ER10-3120-005; ER11-2036-005; ER13-1544-002; ER10-3128-005; ER11-3131-002; ER13-1139-005; ER10-1800-005; ER10-3136-005; ER11-2701-007; ER10-1728-005; ER10-2491-005; ER97-2904-013; ER97-4222-004; ER10-3116-005.

Applicants: The AES Corporation, AES Armenia Mountain Wind, LLC, AES Beaver Valley, LLC, AES Energy Storage, LLC, AES Huntington Beach, L.L.C., AES Laurel Mountain, LLC, AES ES Tait, LLC, AES Redondo Beach, L.L.C., Condon Wind Power, LLC, Imperial Valley Solar 1, LLC, Indianapolis Power & Light Company, Mountain View Power Partners, LLC, Mountain View Power Partners IV, LLC, The Dayton Power and Light Company, DPL Energy, LLC, Lake Benton Power Partners LLC, Storm Lake Power Partners II, LLC.

Description: Triennial Market Power Update for the Northeast Region of AES MBR Affiliates.

Filed Date: 12/26/13.

Accession Number: 20131226-5072.

Comments Due: 5 p.m. ET 2/25/14.

Docket Numbers: ER14-840-000.

Applicants: APDC, Inc.

Description: Tariff Amendment—Order No. 784 to be effective 12/27/2013.

Filed Date: 12/26/13.

Accession Number: 20131226-5057.

Comments Due: 5 p.m. ET 1/16/14.

Docket Numbers: ER14-841-000.

Applicants: Atlantic Power Energy Services (US) LLC.

Description: Atlantic Power Energy Services (US) LLC submits tariff filing per 35: Tariff Amendment—Order No. 784 to be effective 12/27/2013.

Filed Date: 12/26/13.

Accession Number: 20131226-5059.

Comments Due: 5 p.m. ET 1/16/14.

Docket Numbers: ER14-842-000.

Applicants: Manchief Power Company LLC.

Description: Manchief Power Company LLC submits tariff filing per 35: Tariff Amendment—Order No. 784 to be effective 12/27/2013.

Filed Date: 12/27/13.

Accession Number: 20131227-5000.

Comments Due: 5 p.m. ET 1/17/14.

Docket Numbers: ER14-843-000.

Applicants: Meadow Creek Project Company LLC.

Description: Meadow Creek Project Company LLC submits tariff filing per 35: Tariff Amendment—Order No. 784 to be effective 12/27/2013.

Filed Date: 12/27/13.

Accession Number: 20131227-5001.

Comments Due: 5 p.m. ET 1/17/14.

Docket Numbers: ER14-844-000.

Applicants: Southwest Power Pool, Inc.

Description: Southwest Power Pool, Inc. submits tariff filing per 35: Order No. 676-G Compliance Filing to be effective 5/6/2013.

Filed Date: 12/27/13.

Accession Number: 20131227-5019.

Comments Due: 5 p.m. ET 1/17/14.

Docket Numbers: ER14-845-000.

Applicants: El Paso Electric Company.

Description: El Paso Electric Company submits tariff filing per 35: OATT Order No. 784 Compliance Filing to be effective 2/25/2014.

Filed Date: 12/27/13.

Accession Number: 20131227-5020.

Comments Due: 5 p.m. ET 1/17/14.

Docket Numbers: ER14-846-000.

Applicants: Northern States Power Company, a Minnesota Corporation.

Description: Northern States Power Company, a Minnesota corporation submits tariff filing per 35.13(a)(2)(iii): 2013-12-27_NSP Interchange Agrmt Amended Exhibits Filing to be effective 1/1/2013.

Filed Date: 12/27/13.

Accession Number: 20131227-5029.

Comments Due: 5 p.m. ET 1/17/14.

Take notice that the Commission received the following foreign utility company status filings:

Docket Numbers: FC14-12-000.

Applicants: Tropical BioEnergia S.A.

Description: Self-Certification of Foreign Utility Company Status of Tropical BioEnergia S.A.

Filed Date: 12/27/13.

Accession Number: 20131227-5026.

Comments Due: 5 p.m. ET 1/17/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 27, 2013.
Nathaniel J. Davis, Sr.,
Deputy Secretary.

[FR Doc. 2013-31577 Filed 1-3-14; 8:45 am]

BILLING CODE 6717-01-P